DEPARTMENT OF TRANSPORTATION

Notice of Final Federal Agency Actions on Proposed Highway Projects in Texas

AGENCY: Texas Department of Transportation (TxDOT), Federal Highway Administration (FHWA), U.S. Department of Transportation.

ACTION: Notice of limitation on claims for judicial review of actions by TxDOT and Federal Agencies.

SUMMARY: This notice announces actions taken by TxDOT and Federal agencies that are final. The environmental review, consultation, and other actions required by applicable Federal environmental laws for these projects are being, or have been, carried-out by TxDOT pursuant to an assignment agreement executed by FHWA and TxDOT. The actions relate to various proposed highway projects in the State of Texas. These actions grant licenses, permits, and approvals for the projects.

DATES: By this notice, TxDOT is advising the public of final agency actions subject to 23 U.S.C. 139(l)(1). A claim seeking judicial review of TxDOT and Federal agency actions on the highway projects will be barred unless the claim is filed on or before the deadline. For the projects listed below, the deadline is May 21, 2020. If the Federal law that authorizes judicial review of a claim provides a time period of less than 150 days for filing such a claim, then that shorter time period still applies.

FOR FURTHER INFORMATION CONTACT: Carlos Swonke, Environmental Affairs Division, Texas Department of Transportation, 125 East 11th Street, Austin, Texas 78701; telephone: (512) 416-2734; email: carlos.swonke@txdot.gov. TxDOT's normal business hours are 8:00 a.m.-5:00 p.m. (central time), Monday through Friday.

SUPPLEMENTARY INFORMATION: The environmental review, consultation, and other actions required by applicable Federal environmental laws for these projects are being, or have been, carried-out by TxDOT pursuant to 23 U.S.C. 327 and a Memorandum of Understanding dated December 16, 2014, and executed by FHWA and TxDOT.

Notice is hereby given that TxDOT and Federal agencies have taken final agency actions by issuing licenses, permits, and approvals for the highway projects in the State of Texas that are listed below.

The actions by TxDOT and Federal agencies and the laws under which such actions were taken are described in the Categorical Exclusion (CE), Environmental Assessment (EA), or Environmental Impact Statement (EIS) issued in connection with the projects and in other key project documents. The CE, EA, or EIS and other key documents for the listed projects are available by contacting TxDOT at the address provided above.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303]; Landscaping and Scenic Enhancement (Wildflowers), 23 U.S.C. 319.

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act, 33 U.S.C. 1251-1377 (Section 404, Section 401, Section 319); Land and Water Conservation Fund (LWCF), 16 U.S.C. 4601-4604; Safe Drinking Water Act (SDWA), 42 U.S.C. 300(f)-300(j)(6); Rivers and Harbors Act of 1899, 33 U.S.C. 401-406; Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction.)

The projects subject to this notice are:

1. FM 471 from SH 211 to Old FM 471, Bexar and Medina Counties, Texas. The project would expand the existing FM 471 from a two-lane roadway to a four-lane roadway with raised medians, turn lanes, dedicated bike lanes and sidewalks. The project is approximately 4.44 miles in length. The actions by TxDOT and Federal agencies and the laws under which such actions were taken are described in the Categorical Exclusion Determination issued on July 8, 2019 and other documents in the TxDOT project file. The Categorical Exclusion determination and other documents in the TxDOT project file are available by contacting TxDOT at the address provided above or the TxDOT San Antonio District Office at 4615 NW Loop 410, San Antonio, TX 78229; telephone (210) 615-5839.

2. Business (BU) 71E over the Colorado River in LaGrange, Fayette County, Texas. The proposed project consists of the construction of a new concrete and steel girder bridge over the Colorado River approximately 54 feet downstream (centerline to centerline) of the existing historic truss bridge. The new bridge would be 1,400 feet long and 53 feet wide and would carry two 12 feet travel lanes with 10 feet shoulders and a 6 feet wide sidewalk. The purpose of the project is to provide a bridge crossing that meets current design and safety standards, as well as allow for the future rehabilitation and continued use of the existing historic truss bridge. The actions by TxDOT and Federal agencies and the laws under which such actions were taken are described in the Categorical Exclusion Determination issued on July 10, 2019, and other documents in the TxDOT project file. The Categorical Exclusion Determination and other documents in the TxDOT project file are available by contacting TxDOT at the address provided above or the TxDOT Yoakum District Office at 403 Huck St., Yoakum, TX 77995; telephone (361) 293-4436.

3. State Loop 250 at CR 1140, Midland County Texas. The proposed improvements include the construction of main lanes through the entirety of the project limits. An overpass would be constructed at the intersection with CR 1140 with ramps to and from the bridge overpass. Turnaround lanes would also be constructed at both bridges. The actions by TxDOT and Federal agencies and the laws under which such actions were taken are described in the Categorical Exclusion Determination issued on July 12, 2019, and other documents in the TxDOT project file. The Categorical Exclusion Determination and other documents in the TxDOT project file are available by contacting TxDOT at the address provided above or the TxDOT Odessa District Office at 3901 East Highway 80, Odessa, Texas 79761; telephone (432) 498-4746.

4. SH 276 from FM 549 to CR 2472 in Rockwall County, Texas. The proposed project would reconstruct and widen SH 276 from a two-lane undivided rural roadway to a four-lane divided urban roadway within the project limits. The proposed facility would include four lanes, two 12-foot inside lanes and two 14-foot outside shared-use lanes, with a raised median and two-foot inside and outside shoulders. Five-foot sidewalks would be included on both sides of the roadway. The length of the proposed project is approximately 7.22 miles. The purpose of the proposed project is to improve traffic mobility and reduce congestion. The actions by TxDOT and Federal agencies and the laws under which such actions were taken are described in the Categorical Exclusion Determination issued on July 31, 2019, and other documents in the TxDOT project file. The Categorical Exclusion Determination and other documents in the TxDOT project file are available by contacting TxDOT at the address provided above or the TxDOT Dallas District Office at 4777 E Highway 80, Mesquite, TX 75150; telephone (214) 320-4480.

5. Pellicano Drive from Joe Battle Blvd. to Darrington (Berryville St.) in El Paso County, Texas. The project will reconstruct/widen from a two-lane roadway to a six-lane divided facility with sidewalk, illumination, landscaping, dedicated bicycle lanes and a shared-use path. The actions by TxDOT and Federal agencies and the laws under which such actions were taken are described in the Categorical Exclusion Determination issued on August 7, 2019 and other documents in the TxDOT project file. The Categorical Exclusion Determination and other documents in the TxDOT project file are available by contacting TxDOT at the address provided above or the TxDOT El Paso District Office at 13301 Gateway West, El Paso, TX 79928; telephone (915) 790-4340.

6. Landing Boulevard from FM 518 to Interstate Highway 45 (I-45) in Harris and Galveston Counties, Texas. The approximately 1.7-mile-long project will extend Landing Boulevard and the NASA Road 1 Bypass (NASA 1) as a four-lane divided roadway to a proposed roundabout with the proposed NASA 1 Bypass extension, which would connect to the existing NASA 1 Bypass at I-45. The actions by TxDOT and Federal agencies and the laws under which such actions were taken are described in the Categorical Exclusion Determination approved on August 14, 2019 and other documents in the TxDOT project file. The Categorical Exclusion Determination and other documents in the TxDOT project file are available by contacting TxDOT at the address provided above or the TxDOT Houston District Office located at 7600 Washington Avenue, Houston, Texas 77007; telephone (713) 802-5076.

7. I-10 from Loop 1604 to US 90, Bexar and Guadalupe Counties, Texas. The project includes widening the existing facility from four lanes to six lanes and upgrading existing interchanges. The existing two-way frontage roads would be modified to one-way on either side of the I-10 main lanes. Continuous 6-foot sidewalks would be added adjacent to the outside of the northern (westbound) and southern (eastbound) frontage roads for the entire project length. The project is approximately 13.35 miles in length. The actions by TxDOT and Federal agencies and the laws under which such actions were taken are described in the Categorical Exclusion Determination issued on August 15, 2019 and other documents in the TxDOT project file. The Categorical Exclusion determination and other documents in the TxDOT project file are available by contacting TxDOT at the address provided above or the TxDOT San Antonio District Office at 4615 NW Loop 410, San Antonio, TX 78229; telephone (210) 615-5839.

8. FM 2818 from 0.5 miles North of FM 60 to FM 2154 in Brazos County, Texas. The proposed project would add capacity to FM 2818 by constructing an additional travel lane in each direction. Additionally, congestion would be addressed at the intersections of FM 2347, Luther Street and Holleman Drive by converting the corridor to a “Super Street” design. The length of the project is approximately 3.25 miles. The purpose of the proposed project is to relieve congestion by adding capacity and improving safety. The actions by TxDOT and Federal agencies and the laws under which such actions were taken are described in the Categorical Exclusion Determination issued on August 28, 2019, and other documents in the TxDOT project file. The Categorical Exclusion Determination and other documents in the TxDOT project file are available by contacting TxDOT at the address provided above or the TxDOT Bryan District Office at 2591 North Earl Rudder Freeway, Bryan, TX 77803; telephone (979) 778-2165.

9. FM 565 from 0.30 miles West of FM 2354 to 0.16 miles East of FM 1405, Chambers County, Texas. The existing roadway consists of two 11-foot lanes with 1-foot shoulders. The proposed roadway will be widened to two 12-foot lanes with two 10-foot shoulders. From approximately 1.02 miles west of FM 2354 to 0.36 miles east of FM 1405, the roadway will be realigned to eliminate an undesirable “S” curve that does not meet current standards. The length of the proposed project is approximately 1.86 miles. The purpose of the proposed project is to improve traffic mobility, reduce congestion and bring the existing roadway up to current safety standards by removing the “s” curve. The actions by TxDOT and Federal agencies and the laws under which such actions were taken are described in, the Categorical Exclusion Determination issued on August 28, 2019, and other documents in the TxDOT project file. The Categorical Exclusion Determination and other documents in the TxDOT project file are available by contacting TxDOT at the address provided above or the TxDOT Beaumont District Office at 8350 Eastex Freeway, Beaumont TX 77708; telephone (409) 892-7311.

10. Interstate Highway 10 (I-10) at the San Jacinto River in Harris County, Texas. The 0.5-mile-long project will complete an emergency repair of the navigation system associated with the existing bridge which was damaged as a result of Hurricane Harvey. The project would replace the damaged dolphin structures and navigation fender system, and add rip-rap to protect the navigation fender system and bridge bents from future natural disasters or extreme high-water events. The actions by TxDOT and Federal agencies and the laws under which such actions were taken are described in the Categorical Exclusion Determination approved on October 11, 2019 and other documents in the TxDOT project file. The Categorical Exclusion Determination and other documents in the TxDOT project file are available by contacting TxDOT at the address provided above or the TxDOT Houston District Office located at 7600 Washington Avenue, Houston, Texas 77007; telephone (713) 802-5076.

11. US 83 at FM 3034 in Jones County, Texas. The project will consist of a new overpass on US 83 with a project length of 1 mile. FM 3034 will be realigned to the north of the existing alignment with a project length of 0.27 miles. The actions by TxDOT and Federal agencies and the laws under which such actions were taken are described in the Categorical Exclusion approved on October 15, 2019, and other documents in the TxDOT project file. The Categorical Exclusion Determination and other documents in the TxDOT project file are available by contacting TxDOT at the address provided above or the TxDOT Abilene District Office at 4250 North Clack Street, Abilene, TX 79601; telephone (325) 643-6817.

12. FM 2275 from FM 3272 to SH 300, in Gregg County, Texas. The purpose of the proposed project is to improve safety and mobility by reconstructing and widening the freeway from two to four lanes with flush median (continuous left turn lane), including shared use paths, bike lanes, and sidewalks. The proposed project length is approximately 4.04 miles in length. The actions by TxDOT and Federal agencies and the laws under which such actions were taken are described in the final Environmental Assessment (EA) approved on July 18, 2019, the Finding of No Significant Impact (FONSI) issued on July 18, 2019, and other documents in the TxDOT project file. The Final EA, FONSI, and other documents in the TxDOT project file are available by contacting TxDOT at the address provided above or the TxDOT Tyler District Office at 2709 West Front Street St., Tyler, TX 75702; telephone (903) 510-9267.

13. US 59 from FM 2914 to south of SL 573, in San Jacinto and Liberty Counties, Texas. The purpose of the proposed project is to improve safety and mobility on US 59 between FM 2914 and SL 573 to accommodate current and future traffic volumes by upgrading US 59 to interstate standards which would include converting it to a controlled access highway with frontage roads and two main lanes in each direction, and frontage road shoulders to accommodate bicycles in the Liberty County portion of the project. The proposed project length is approximately 6.63 miles in length. The actions by TxDOT and Federal agencies and the laws under which such actions were taken are described in the Final Environmental Assessment (EA) approved on August 14, 2019, the Finding of No Significant Impact (FONSI) issued on August 14, 2019, and other documents in the TxDOT project file. The Final EA, FONSI, and other documents in the TxDOT project file are available by contacting TxDOT at the address provided above or the TxDOT Lufkin District Office at 1805 North Timberland Dr., Lufkin, TX 75901; telephone (936) 633-4395.

14. US 183A Toll Road Phase III, From Hero Way to SH 29, Williamson County, Texas. The build alternative would extend the six-lane, controlled-access, grade separated 183A tolled main lanes from their current terminus approximately 0.4 mile north of Hero Way to approximately 0.4 mile north of SH 29. The 183A tolled main lanes would be located in the median between the existing northbound and southbound US 183 four-lane divided roadway. The existing US 183 four-lane divided roadway within the project limits would serve as frontage roads north to SH 29, and transition back to the existing, undivided US 183 approximately 1.1 miles north of SH 29. The project is approximately 5.63 miles in length. The actions by TxDOT and Federal agencies and the laws under which such actions were taken are described in the Final EA approved on August 19, 2019, the Finding of No Significant Impact (FONSI) issued on August 19, 2019, and other documents in the TxDOT project file. The Final EA, FONSI and other documents in the TxDOT project file are available by contacting TxDOT at the address provided above or the TxDOT Austin District Office at 7901 North I-35, Austin, TX 78753; telephone (512) 832-7000.

15. FM 552 from SH 205 to SH 66 in Rockwall County, Texas. The proposed project would consist of widening FH 552 from a two-lane rural section to a four-lane urban section. The two inside travel lanes would be 12-foot wide and the outside travel lanes would be 14-foot wide to accommodate shared-use of bicycles and vehicles. The length of the proposed project is approximately 5.19 miles. The purpose of the proposed project is to improve mobility and providing a facility that meets current roadway design standards. The actions by TxDOT and Federal agencies and the laws under which such actions were taken are described in the Final Environmental Assessment (EA) approved on August 23, 2019, Finding of No Significant Impact (FONSI) issued on August 23, 2019 and other documents in the TxDOT project file. The Final EA, FONSI, and other documents are available by contacting TxDOT at the address provided above or the TxDOT Dallas District Office at 4777 E Highway 80, Mesquite, TX 75150; telephone (214) 320-4480.

16. SH 286 from FM 43 to south of FM 2444, in Nueces County, Texas. The purpose of the proposed project is to improve safety and mobility on SH 286 between FM 43 and FM 2444 and to accommodate current and future traffic volumes by reconstructing and widening SH 286 from a two-lane undivided highway to a controlled access four-lane freeway, including frontage roads with 12-foot shoulders, and sidewalks. The proposed project length is approximately 3.2 miles. The actions by TxDOT and Federal agencies and the laws under which such actions were taken are described in the Final Environmental Assessment (EA) approved on September 24, 2019, the Finding of No Significant Impact (FONSI) issued on September 25, 2019 and other documents in the TxDOT project file. The Final EA, FONSI, and other documents in the TxDOT project file are available by contacting TxDOT at the address provided above or the TxDOT Corpus Christi District Office at 1701 South Padre Island Drive, Corpus Christi, TX 78416; telephone (361) 808-2544.

17. US 82 from FM 1197/Bridge Street in Henrietta to SH 175/Montague Street in Nocona in Clay and Montague Counties, Texas. The proposed project would consist of widening the existing 2-lane undivided highway to a 4-lane divided highway. Some areas of proposed US 82 would be divided by a depressed grassy median and other areas would be divided by a center left turn lane. The proposed project would be approximately 26.6 miles in length. The actions by TxDOT and Federal agencies and the laws under which such actions were taken are described in the Final Environmental Assessment (EA) approved on September 24, 2019, the Finding of No Significant Impact (FONSI) issued on October 3, 2019, and other documents in the TxDOT project file. The Final EA, FONSI, and other documents in the TxDOT project file are available by contacting TxDOT at the address provided above or at the TxDOT Wichita Falls District Office at 1601 Southwest Parkway, Wichita Falls, TX 76302; telephone (940) 720-7728.

18. FM 1461 from SH 289 to CR 123 in Collin County, Texas. The proposed improvements would consist of reconstructing and widening the roadway from a two-lane rural highway to a four-lane urban highway. Expansion would consist of one 12-foot wide travel lane and one 14-foot wide outside shared-use lane in each direction, a proposed median to accommodate a future ultimate six-lane facility, and sidewalks. The length of the proposed project is approximately 7.10 miles. The purpose of the proposed project is to accommodate expanding transportation demands, increase mobility and accessibility in the region, and provide an east-west transportation facility to serve the communities in the project area. The actions by TxDOT and Federal agencies and the laws under which such actions were taken are described in the Final Environmental Assessment (EA) approved on October 1, 2019, Finding of No Significant Impact (FONSI) issued on October 3, 2019 and other documents in the TxDOT project file. The Final EA, FONSI, and other documents are available by contacting TxDOT at the address provided above or the TxDOT Dallas District Office at 4777 E Highway 80, Mesquite, TX 75150; telephone: (214) 320-4480.

19. IH 35 from US 380 to 0.7 Mile North of FM 3002 in Denton and Cooke Counties, Texas. The proposed project would widen and reconstruct IH 35 within the proposed limits. The proposed project would construct three main lanes in each direction and two frontage road lanes in each direction. Existing interchanges would be reconstructed and the existing two-way frontage roads would be converted to one-way operation. In addition, existing ramps would generally be configured from a “diamond” to an “X” configuration. The length of the proposed project is approximately 15.1 miles. The purpose of the proposed project is to improve traffic mobility, enhance access, reduce traffic congestion, and improve safety. The actions by TxDOT and Federal agencies and the laws under which such actions were taken are described in the Final Environmental Assessment (EA) approved on October 3, 2019, Finding of No Significant Impact (FONSI) issued on October 7, 2019 and other documents in the TxDOT project file. The EA and other documents are available by contacting TxDOT at the address provided above or the TxDOT Dallas District Office at 4777 E Highway 80, Mesquite, TX 75150; telephone: (214) 320-4480.

20. Alliance Texas/Haslet Accessibility Improvement Project, from approximately 3,500 feet west of FM 156 to I-35W, Tarrant County. TxDOT proposes reconstructing and widening approximately 0.75 mile of Avondale-Haslet Road to a 4-lane divided roadway. Also, the project includes the extension of Avondale-Haslet Road (4-lane divided roadway) from FM 156 to I-35W (Proposed Haslet Parkway) and the extension of Intermodal Parkway (6-lane divided roadway) southward from its current southern terminus to the proposed Haslet Parkway. The proposed right-of-way (ROW) width varies between 120 to 170 feet. The actions by TxDOT and Federal agencies and the laws under which such actions were taken are described in the Final Environmental Assessment approved on October 28, 2019, the Finding of No Significant Impact issued on December 2, 2019, and other documents in the TxDOT project file. The Final Environmental Assessment and other documents in the TxDOT project file are available by contacting TxDOT at the address provided above or the TxDOT Fort Worth District Office at 2501 S W Loop 820, Fort Worth, Texas 76133; telephone (817) 370-6744.

21. SH 21 Widening from 2.01 miles west of FM 2865 to Martin Luther King, Jr. Street in the City of Madisonville, in Madison County, Texas. The proposed project would widen SH 21 from 2.01 miles west of FM 2865 to Martin Luther King, Jr. Street in the City of Madisonville, and construct a relief route on new location south of the community of North Zulch. The section of SH 21 through North Zulch would not be widened. Beginning 2.01 miles west of FM 2865, SH 21 would be widened for approximately 5 miles before diverging south of North Zulch on new location near County Road 439 (approximately 1 mile west of North Zulch). The proposed relief route south of North Zulch would continue on new location for approximately 3.2 miles before merging with the existing SH 21 facility east of North Zulch approximately 0.75 mile east of County Road 426 (Cleveland Road). From this point, the proposed project would widen SH 21 for approximately 10 miles, ending at Martin Luther King, Jr. Street in Madisonville. The proposed SH 21 facility, including the new-location relief route, would consist of four 12-foot wide travel lanes with a 56-foot to 68-foot wide median. The proposed project would require approximately 384 acres of additional ROW, including approximately 160 acres of ROW for the new location relief route. The ROW width would vary from 100 feet to 324 feet wide, with a typical width of 224 feet. The actions by TxDOT and Federal agencies and the laws under which such actions were taken are described in the Final Environmental Assessment (EA) October 10, 2019, the Finding of No Significant Impact (FONSI) was issued on December 6, 2019, and other documents in the TxDOT project file. The EA, and FONSI, and other documents in the TxDOT project file are available by contacting TxDOT at the address provided above or the TxDOT Bryan District Office at 2591 North Earl Rudder Freeway, Bryan, TX 77803; telephone (979) 778-9764.

(Authority: 23 U.S.C. 139(l)(1))

Issued on: December 13, 2019.
Michael T. Leary,
Director, Planning and Program Development, Federal Highway Administration.

[FR Doc. 2019-27380 Filed 12-20-19; 8:45 am]

BILLING CODE 4910-22-P